DEPARTMENT OF TRANSPORTATION

Coast Guard

33 CFR Parts 140, 141, 142, 143, 144, 145, 146, and 147

[USCG-1998-3868]

RIN 2115-AF39

Outer Continental Shelf Activities

AGENCY: Coast Guard, DOT.

ACTION: Notice of proposed rulemaking; extension of comment period.

SUMMARY: The Coast Guard is extending the periods for public comment on its notice of proposed rulemaking on Outer Continental Shelf Activities. We received several requests to extend the comment period for an additional 90 days because of the length and complexity of the proposed rulemaking. We are changing the deadline for receipt of comments from April 5, 2000, to July 5, 2000. Also, due to requests submitted both to the Docket Management Facility and to the Office of Management and Budget (OMB), we are changing the deadline for receipt of comments by OMB on the proposed collection-of-information requirements from February 7, 2000, to July 5, 2000.

DATES: Comments and related material must reach the Docket Management Facility on or before July 5, 2000. Comments sent to OMB on collection of information must reach OMB on or before July 5, 2000.

ADDRESSES: To make sure your comments and related material are not entered more than once in the docket, please submit them by only one of the following methods:

(1) By mail to the Docket Management Facility, (USCG-1998-3868), U.S. Department of Transportation, room PL-401, 400 Seventh Street SW., Washington, DC 20590-0001.

(2) By hand to room PL-401 on the Plaza level of the Nassif Building, 400 Seventh Street SW., Washington, DC, between 9 a.m. and 5 p.m., Monday through Friday, except Federal holidays. The telephone number is 202-366-9329.

(3) By fax to the Docket Management Facility at 202-493-2251.

(4) Electronically through the Web Site for the Docket Management System at http://dms.dot.gov.

You may also mail comments on collection of information to the Office of Information and Regulatory Affairs, Office of Management and Budget, 725 17th Street NW., Washington, DC 20503, ATTN: Desk Officer, U.S. Coast Guard.

FOR FURTHER INFORMATION CONTACT: For questions on this proposed rule, call Mr. James M. Magill, Vessel and Facility Operating Standards Division (G-MSO-2), telephone 202-267-1082 or fax 202-267-4570. For questions on viewing or submitting material to the docket, call Ms. Dorothy Walker, Chief of Dockets, Department of Transportation, telephone 202-366-9329.

SUPPLEMENTARY INFORMATION:

Request for Comments

The NPRM, published on December 7, 1999 [64 FR 68416], encouraged interested persons to participate in this rulemaking by submitting written data, views, or arguments by April 5, 2000. It also invited comments on collection of information to be submitted by February 7, 2000. This request does the same, except that it invites their submitting them by July 5, 2000.

Persons submitting comments should include their names and addresses, identify this docket [USCG-1998-3868] and the specific section of the NPRM to which each comment applies, and give the reason for each comment. Please submit one copy of each comment and attachment in an unbound format, no larger that 8½ by 11 inches, suitable for copying and electronic filing, to the DOT Docket Management Facility at the address under ADDRESSES. If you want acknowledgement of receipt of your comment, enclose a stamped self-addressed postcard or envelope.

The Coast Guard will consider all comments received during the comment period. It may change this NPRM in view of them.

Dated: March 13, 2000.
R.C. North,
Rear Admiral, U.S. Coast Guard, Assistant Commandant for Marine Safety and Environmental Protection.

[FR Doc. 00-6546 Filed 3-15-00; 8:45 am]

BILLING CODE 4910-15-U